ENVIRONMENTAL PROTECTION AGENCY

[EPA-HQ-OAR-2024-0036; FRL—12073-01-OMS]

Agency Information Collection Activities; Submission to the Office of Management and Budget for Review and Approval; Comment Request; Climate Pollution Reduction Grants (CPRG) Program Implementation (New)

AGENCY: Environmental Protection Agency (EPA).

ACTION: Notice.

SUMMARY: The Environmental Protection Agency (EPA) has submitted an information collection request (ICR), Climate Pollution Reduction Grants (CPRG) Program Implementation Grants ICR (EPA ICR Number 2806.01, OMB Control Number 2060-NEW) to the Office of Management and Budget (OMB) for review and approval in accordance with the Paperwork Reduction Act. This is a request for approval of a new collection. Public comments were previously requested via the Federal Register on February 8, 2024 during a 60-day comment period. This notice allows for an additional 30 days for public comments.

DATES: Comments may be submitted on or before August 2, 2024.

ADDRESSES: Submit your comments, referencing Docket ID Number EPA HQ-OAR-2024-0036, to the EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Pamela Long, Air Quality Policy Division, Office of Air Quality Planning and Standards, Mail Code C504.1, Environmental Protection Agency, Post Office Box 12055 RTP, NC 27711; telephone number: (919) 541-0641; email address: long.pam@epa.gov.

SUPPLEMENTARY INFORMATION: This is a request for approval of a new collection. An agency may not conduct or sponsor, and a person is not required to respond to, a collection of information unless it displays a currently valid OMB control number.

Public comments were previously requested via the Federal Register on February 8, 2024, during a 60-day comment period (89 FR 8679). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Climate Pollution Reduction Grants (CPRG) program was established under section 60114 of the Inflation Reduction Act (IRA) signed on August 16, 2022. Through a competitive process, the EPA anticipates awarding approximately $4.6B in CPRG implementation grants to states, municipalities, Tribes, territories, and air quality management districts in 2024 to “facilitate the reduction of greenhouse gas air pollution.” Grantees will be required to report projected greenhouse gas (GHG) emission reductions as well as changes in other air pollutants, both in general and specifically in low-income and disadvantaged communities (LIDAC). This information will be collected to ensure accurate projections of GHGs and other air pollutant emissions both in and outside LIDAC areas for projects being funded under the CPRG program.

It is expected that the CPRG program, along with other IRA programs, will be required to demonstrate effective execution of the statutory responsibilities charged to the EPA, as well as comply with any additional reporting requirements (e.g., Evidence Act, Justice40). These responsibilities necessitate standardized data collection from CPRG implementation grantees for the purposes of (1) determining the accuracy of calculations and analyses submitted by grantees, (2) assessing the compliance of grantees in performing tasks agreed to under the Terms and Conditions of CPRG implementation grants, and (3) applying information collected from CPRG implementation grantees for analytical use.

Form Numbers: None.

Respondents/affected entities: CPRG Implementation Grant General Competition and Tribes & Territories Competition grantees.

Respondent's obligation to respond: Mandatory (to comply with CPRG grant Reporting Requirements/Terms and Conditions).

Estimated number of respondents: 218 (total).

Frequency of response: Once each for the 1-Year (General Competition) and Final Reports (General and Tribe & Territories Competitions).

Total estimated burden: 46,080 hours (per year). Burden is defined at 5 CFR 1320.03(b).

Total estimated cost: $2,660,121 (per year), which includes $0 annualized capital or operation & maintenance costs.

Changes in the Estimates: This is a new collection.

Courtney Kerwin,
Director, Information Engagement Division.

[FR Doc. 2024-14603 Filed 7-2-24; 8:45 am]

BILLING CODE 6560-50-P